DEPARTMENT OF THE INTERIOR

National Park Service

[NPS-WASO-NAGPRA-NPS0038507; PPWOCRADN0-PCU00RP14.R50000]

Notice of Inventory Completion: California Department of Parks and Recreation, Sacramento, CA

AGENCY: National Park Service, Interior.

ACTION: Notice.

SUMMARY: In accordance with the Native American Graves Protection and Repatriation Act (NAGPRA), the California Department of Parks and Recreation has completed an inventory of human remains and associated funerary objects and has determined that there is a cultural affiliation between the human remains and associated funerary objects and Indian Tribes or Native Hawaiian organizations in this notice.

DATES: Repatriation of the human remains and associated funerary objects in this notice may occur on or after September 20, 2024.

ADDRESSES: Dr. Leslie L. Hartzell, NAGPRA Coordinator, California Department of Parks and Recreation, P.O. Box 942896, Sacramento, CA 94296-0001, telephone (916) 425-8016, email Leslie.Hartzell@parks.ca.gov.

SUPPLEMENTARY INFORMATION: This notice is published as part of the National Park Service's administrative responsibilities under NAGPRA. The determinations in this notice are the sole responsibility of the California Department of Parks and Recreation, and additional information on the determinations in this notice, including the results of consultation, can be found in the inventory or related records. The National Park Service is not responsible for the determinations in this notice.

Abstract of Information Available

Based on the information available, human remains representing at least 79 individuals were removed from Placer, Sutter, and Yuba Counties, CA. The 1,155 lots of associated funerary objects are 125 lots of modified stone, 404 lots of modified shell, 110 lots of modified bone, 17 lots of unmodified stone, 21 lots of unmodified shell, 313 lots of unmodified bone, seven lots of organic material, 10 lots of inorganic material, one lot of soil samples, 15 lots of baked clay, three lots of pigments, and 129 lots of unidentified items.

CA-PLA-142

From 1962-63, human remains representing, at minimum, two individuals were removed from CA-PLA-142 (BIR 44, ACCN.295) in Placer County, CA. No known individuals were identified. The three lots of associated funerary objects are three lots of modified stone.

American River College removed human remains and associated funerary objects from the burial site for the Central California Archaeological Foundation. The State Indian Museum (managed by the California Department of Parks and Recreation) were consulted on the project, and later accepted the collection as a donation at an unknown date.

CA-SUT-23

In 1958, human remains representing, at minimum, 31 individuals were removed from CA-SUT-23 (BIR 87, ACCN.309-154) southeastern Sutter County, CA. The human remains and associated funerary objects were donated to the State Indian Museum. No known individuals were identified. The 912 lots of associated funerary objects are 106 lots of modified stone, 310 lots of modified shell, 100 lots of modified bone, 12 lots of unmodified stone, 248 lots of unmodified bone, two lots of organic material, one lot of inorganic material, one lot of baked clay, three lots of pigments, and 129 lots of unidentified items.

Records pertaining to the site alternately use CA-SUT-23 and CA-SUT-24 as the site trinomial. CA-SUT-23 appears on the earliest records. CA-SUT-24 has been used to describe this site and another site located in the Sutter Buttes. During tribal consultation, the site was determined to be CA-SUT-23.

CA-SUT-?

In 1959, human remains representing, at minimum, three individuals were removed from an unknown site (BIR 86, ACCN.309-202) in Sutter County, CA. The human remains and associated funerary objects were accessioned to the State Indian Museum. No known individuals were identified. The 47 lots of associated funerary objects are five lots of modified stone, 30 lots of modified shell, one lot of modified bone, two lots of unmodified stone, one lot of unmodified shell, four lots of unmodified bone, three lots of organic material, and one lot of baked clay.

CA-YUB-14

In 1957, human remains representing, at minimum, 42 individuals were removed from the Rio Oso Site, CA-YUB-14 (BIR 109, ACCN.141), in Placer County, CA. The site was excavated by volunteer archaeological crews of the State Indian Museum, who then accessioned the collections into the State Indian Museum's collection. No known individuals were identified. The 180 lots of associated funerary objects are 8 lots of modified stone, 63 lots of modified shell, eight lots of modified bone, three lots of unmodified stone, 20 lots of unmodified shell, 61 lots of unmodified bone, two lots of organic material, one lot of inorganic material, one lot of soil samples, and 13 lots of baked clay. The site was discovered by the U.S. Army Corps of Engineers during levee repair.

CA-YUB-[?]

At an unknown date, probably in the 1960s, human remains representing, at minimum, one individual were removed from an unknown site (BIR 110, ACCN.309-X) in Brown's Valley in Yuba County, CA. The exact date of excavation is unknown. No known individuals were identified. The 13 lots of associated funerary objects are three lots of modified stone, one lot of modified shell, one lot of modified bone, and eight lots of inorganic material.

Cultural Affiliation

Based on the information available and the results of consultation, cultural affiliation is clearly identified by the information available about the human remains and associated funerary objects described in this notice.

Determinations

The California Department of Parks and Recreation has determined that:

• The human remains described in this notice represent the physical remains of 79 individuals of Native American ancestry.

• The 1,155 objects described in this notice are reasonably believed to have been placed intentionally with or near individual human remains at the time of death or later as part of the death rite or ceremony.

• There is a reasonable connection between the human remains and associated funerary objects described in this notice and the Mooretown Rancheria of Maidu Indians of California; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 20, 2024. If competing requests for repatriation are received, the California Department of Parks and Recreation must determine the most appropriate requestor prior to repatriation. Requests for joint repatriation of the human remains and associated funerary objects are considered a single request and not competing requests. The California Department of Parks and Recreation is responsible for sending a copy of this notice to the Indian Tribes and Native Hawaiian organizations identified in this notice.

Authority: Native American Graves Protection and Repatriation Act, 25 U.S.C. 3003, and the implementing regulations, 43 CFR 10.10.

Dated: August 7, 2024.
Melanie O'Brien,
Manager, National NAGPRA Program.

[FR Doc. 2024-18685 Filed 8-20-24; 8:45 am]

BILLING CODE 4312-52-P